DEPARTMENT OF STATE

[Public Notice 8418]

U.S. Department of State Advisory Committee on Private International Law (ACPIL): Public Meeting on Arbitration

The Office of the Assistant Legal Adviser for Private International Law, Department of State, gives notice of a public meeting to discuss a draft convention on transparency in treaty-based investor-state arbitration that will be considered by the Secretariat of the United Nations Commission on International Trade Law (UNCITRAL). The public meeting will take place on Wednesday, September 4, 2013 from 9:30 a.m. until 12 p.m. EDT. This is not a meeting of the full Advisory Committee.

After several years of work, UNCITRAL adopted a set of Rules on Transparency in Treaty-based Investor-State Arbitration at its 46th Session in July 2013. UNCITRAL has decided to develop a convention that would provide an efficient mechanism for states to apply these Rules to existing investment treaties. A draft convention prepared by the UNCITRAL Secretariat is available in paper A/CN.9/784 on the UNCITRAL Web site (http://www.uncitral.orgiuncitralien/commission/workinggrous/2Arbitration.html). The draft convention will be discussed September 16-20, 2013, at the 59th session of UNCITRAL Working Group II.

The purpose of the public meeting is to obtain the views of concerned stakeholders on the draft convention in advance of the meeting of Working Group II. Those who cannot attend but wish to comment are welcome to do so by email to Tim Schnabel at SchnabelTR@state.gov.

Time and Place: The meeting will take place from 9:30 a.m. until 12 p.m. at 2430 E Street NW., South Building (SA-4), Room 240. Participants should arrive at the gate at 23rd and D Streets, NW before 9:10 a.m. for visitor screening, and will be escorted to the South Building. If you are unable to attend the public meeting and would like to participate from a remote location, teleconferencing will be available.

Public Participation: This meeting is open to the public, subject to the capacity of the meeting room. Please provide your full name and contact information if you are planning on attending in person. Access to the building is strictly controlled. For pre-clearance purposes, those planning to attend should emailpiRstate.gov providing full name, address, date of birth, citizenship, driver's license or passport number, and email address. This information will greatly facilitate entry into the building. A member of the public needing reasonable accommodation should email pil@state.gov not later than August 29, 2013. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.govidocuments/organization/103419.pdf for additional information.

Dated: August 5, 2013.
Timothy R. Schnabel,
Attorney-Adviser, Office of Private International Law Office of Legal Adviser, Department of State.

[FR Doc. 2013-20128 Filed 8-16-13; 8:45 am]

BILLING CODE 4710-08-P